DEPARTMENT OF ENERGY

Federal Energy Regulatory Commission

Combined Notice of Filings #1

January 29, 2009.

Take notice that the Commission has received the following Natural Gas Pipeline Rate and Refund Report filings:

Docket Numbers: RP99-301-228.

Applicants: ANR Pipeline Company.

Description: ANR Pipeline Company submits an amendment to its Rate Schedule FSS negotiated rate agreement with Wisconsin Public Service Corp.

Filed Date: 01/23/2009.

Accession Number: 20090126-0309.

Comment Date: 5 p.m. Eastern Time on Wednesday, February 4, 2009.

Docket Numbers: RP99-301-229.

Applicants: ANR Pipeline Company.

Description: ANR Pipeline Company submits amendments to two Rate Schedule ETS negotiated rate agreements.

Filed Date: 01/23/2009.

Accession Number: 20090126-0308.

Comment Date: 5 p.m. Eastern Time on Wednesday, February 4, 2009.

Docket Numbers: RP99-301-230.

Applicants: ANR Pipeline Company.

Description: ANR Pipeline Company submits amendments to Rate Schedule ETS negotiated rate agreement.

Filed Date: 01/23/2009.

Accession Number: 20090126-0307.

Comment Date: 5 p.m. Eastern Time on Wednesday, February 4, 2009.

Docket Numbers: RP09-258-000.

Applicants: Questar Pipeline Company.

Description: Questar Pipeline Company submits Title Page and Second Revised Sheet 21 et al. to FERC Gas Tariff, Second Revised Volume 1, to be effective 3/1/09.

Filed Date: 01/23/2009.

Accession Number: 20090126-0306.

Comment Date: 5 p.m. Eastern Time on Wednesday, February 4, 2009.

Docket Numbers: RP09-259-000.

Applicants: Williston Basin Interstate Pipeline Company.

Description: Williston Basin Interstate Pipeline Company submits their filing to comply with Order 712 and to update Section 17 of its FERC Gas Tariff, Second Revised Volume 1.

Filed Date: 01/26/2009.

Accession Number: 20090126-0305

Comment Date: 5 p.m. Eastern Time on Monday, February 9, 2009.

Docket Numbers: RP09-260-000.

Applicants: Tres Palacios Gas Storage, LLC.

Description: Tres Palacios Gas Storage LLC submits First Revised Sheet 2 et al. to its FERC Gas Tariff, Original Volume 1 in compliance with FERC Order No. 712, to be effective 2/25/09.

Filed Date: 01/26/2009.

Accession Number: 20090127-0172.

Comment Date: 5 p.m. Eastern Time on Monday, February 9, 2009.

Docket Numbers: RP09-261-000.

Applicants: CenterPoint Energy Gas Transmission Company.

Description: CenterPoint Energy Gas Transmission Company submits Second Revised Sheet No. 536 et al. to FERC Gas Tariff, Sixth Revised Volume No. 1, to be effective 2/25/09.

Filed Date: 01/26/2009.

Accession Number: 20090127-0170.

Comment Date: 5 p.m. Eastern Time on Monday, February 9, 2009.

Docket Numbers: RP09-262-000.

Applicants: CenterPoint Energy—Mississippi River Transmission Corporation.

Description: CenterPoint Energy-Mississippi River Transmission Corporation submits Seventh Revised Sheet No. 165 et al. to FERC Gas Tariff, Third Revised Volume No. 1, to be effective 2/25/09.

Filed Date: 01/26/2009.

Accession Number: 20090127-0169.

Comment Date: 5 p.m. Eastern Time on Monday, February 9, 2009.

Docket Numbers: RP09-263-000.

Applicants: Honeoye Storage Corporation.

Description: Honeoye Storage Corp submits Second Revised Sheet No. 13 et al. to FERC Gas Tariff, Original Volume No. 1, to be effective 2/21/09.

Filed Date: 01/26/2009.

Accession Number: 20090127-0168.

Comment Date: 5 p.m. Eastern Time on Monday, February 9, 2009.

Docket Numbers: RP09-264-000.

Applicants: TransColorado Gas Transmission Company, LLC.

Description: TransColorado Gas Transmission Company, LLC submits Second Revised Sheet No. 219 et al. to FERC Gas Tariff, Second Revised Volume No. 1, to be effective 2/26/09.

Filed Date: 01/26/2009.

Accession Number: 20090127-0167.

Comment Date: 5 p.m. Eastern Time on Monday, February 9, 2009.

Docket Numbers: RP09-265-000.

Applicants: Kinder Morgan Interstate Gas Trans. LLC.

Description: Kinder Morgan Interstate Gas Transmission LLC submits First Revised Sheet No. 46 et al. to FERC Gas Tariff, Fourth Revised Volume No. 1-B, to be effective 2/26/09.

Filed Date: 01/26/2009.

Accession Number: 20090127-0166.

Comment Date: 5 p.m. Eastern Time on Monday, February 9, 2009.

Docket Numbers: RP09-266-000.

Applicants: Rockies Express Pipeline, LLC.

Description: Rockies Express Pipeline LLC submits First Revised Sheet No. 173 et al. to FERC Gas Tariff, Second Revised Volume No. 1, to be effective 2/26/09.

Filed Date: 01/26/2009.

Accession Number: 20090127-0165.

Comment Date: 5 p.m. Eastern Time on Monday, February 9, 2009.

Docket Numbers: RP09-267-000.

Applicants: Empire Pipeline, Inc.

Description: Empire Pipeline, Inc submits First Revised Sheet No. 163 et al. to FERC Gas Tariff, Original Revised Volume No. 1, to be effective 2/25/09.

Filed Date: 01/26/2009.

Accession Number: 20090127-0171.

Comment Date: 5 p.m. Eastern Time on Monday, February 9, 2009.

Docket Numbers: RP09-268-000.

Applicants: Clear Creek Storage Company, LLC.

Description: Clear Creek Storage Company, LLC submits Second Revised Sheet 4 et al. to FERC Gas Tariff, Original Volume 1, to be effective 2/25/09.

Filed Date: 01/26/2009.

Accession Number: 20090127-0157.

Comment Date: 5 p.m. Eastern Time on Monday, February 9, 2009.

Docket Numbers: RP09-269-000.

Applicants: National Fuel Gas Supply Corporation.

Description: National Fuel Gas Supply Corporation submits Third Revised Sheet 356 et al. to FERC Gas Tariff, Fourth Revised Volume 1, to be effective 2/25/09.

Filed Date: 01/26/2009.

Accession Number: 20090127-0156.

Comment Date: 5 p.m. Eastern Time on Monday, February 9, 2009.

Docket Numbers: RP09-270-000.

Applicants: Questar Pipeline Company.

Description: Questar Pipeline Company submits Forty-Seventh Revised Sheet 5 et al. to FERC Gas Tariff, First Revised Volume 1, to be effective 2/25/09.

Filed Date: 01/26/2009.

Accession Number: 20090127-0160.

Comment Date: 5 p.m. Eastern Time on Monday, February 9, 2009.

Docket Numbers: RP09-271-000.

Applicants: Rendezvous Pipeline Company, LLC.

Description: Rendezvous Pipeline Company, LLC submits First Revised Sheet 50 et al. to FERC Gas Tariff, Original Volume 1, to be effective 2/25/09.

Filed Date: 01/26/2009.

Accession Number: 20090127-0158.

Comment Date: 5 p.m. Eastern Time on Monday, February 9, 2009.

Docket Numbers: RP09-272-000.

Applicants: Paiute Pipeline Company.

Description: Paiute Pipeline Co submits Fourth Revised Sheet 104 et al. to FERC Gas Tariff, Second Revised Volume 1-A.

Filed Date: 01/26/2009.

Accession Number: 20090127-0159.

Comment Date: 5 p.m. Eastern Time on Monday, February 9, 2009.

Docket Numbers: RP09-273-000.

Applicants: Mojave Pipeline Company.

Description: Mojave Pipeline Company submits Second Revised Sheet 1 et al., to be effective 2/25/09.

Filed Date: 01/26/2009.

Accession Number: 20090127-0122.

Comment Date: 5 p.m. Eastern Time on Monday, February 9, 2009.

Docket Numbers: RP09-274-000.

Applicants: Hardy Storage Company, LLC.

Description: Hardy Storage Company, LLC submits Second Revised Sheet 110 et al. to FERC Gas Tariff, Second Revised Volume 1.

Filed Date: 01/26/2009.

Accession Number: 20090127-0135.

Comment Date: 5 p.m. Eastern Time on Monday, February 9, 2009.

Docket Numbers: RP09-275-000.

Applicants: Columbia Gulf Transmission Company.

Description: Columbia Gulf Transmission Company submits Fifth Revised Sheet 191 et al. to FERC Gas Tariff, Second Revised Volume 1.

Filed Date: 01/26/2009.

Accession Number: 20090127-0134.

Comment Date: 5 p.m. Eastern Time on Monday, February 9, 2009.

Docket Numbers: RP09-276-000.

Applicants: Southeast Supply Header, LLC.

Description: Southeast Supple Header, LLC submits First Revised Sheet 303 et al. to FERC Gas Tariff, Original Volume 1.

Filed Date: 01/26/2009.

Accession Number: 20090127-0133.

Comment Date: 5 p.m. Eastern Time on Monday, February 9, 2009.

Docket Numbers: RP09-277-000.

Applicants: Dominion Transmission, Inc.

Description: Dominion Transmission, Inc submits Fourth Revised Sheet 1142 et al. to FERC Gas Tariff, Third Revised Volume 1.

Filed Date: 01/26/2009.

Accession Number: 20090127-0132.

Comment Date: 5 p.m. Eastern Time on Monday, February 9, 2009.

Docket Numbers: RP09-278-000.

Applicants: OkTex Pipeline Company, LLC.

Description: OkTex Pipeline Company, LLC submits Sixth Revised Sheet 17 et al. to FERC Gas Tariff, Original Volume 1.

Filed Date: 01/26/2009.

Accession Number: 20090127-0196.

Comment Date: 5 p.m. Eastern Time on Monday, February 9, 2009.

Docket Numbers: RP09-279-000.

Applicants: Viking Gas Transmission Company.

Description: Viking Gas Transmission Company submits Third Revised Sheet 13A et al. to FERC Gas Tariff, Original Volume 1, to be effective 2/1/09.

Filed Date: 01/26/2009.

Accession Number: 20090127-0195.

Comment Date: 5 p.m. Eastern Time on Monday, February 9, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov., or call (866) 208-3676 (toll free). For TTY, call (202) 502-8659.

Nathaniel J. Davis, Sr.,
Deputy Secretary.

[FR Doc. E9-2348 Filed 2-3-09; 8:45 am]

BILLING CODE 6717-01-P